DEPARTMENT OF COMMERCE

National Institute of Standards and Technology

Announcement of Meeting on “Developing Standard Requirements for Fatigue Performance of Transvenous Cardiac Pacing and Defibrillation Leads”

AGENCY: National Institute of Standards and Technology, Commerce.

ACTION: Notice of public meeting.

SUMMARY: The National Institute of Standards and Technology (NIST) invites interested parties to attend a pre-consortium meeting on “Developing Standard Requirements for Fatigue Performance of Transvenous Cardiac Pacing and Defibrillation Leads.”

DATES: The meeting will take place on May 30, 2012 from 10 a.m. to 11 a.m.

ADDRESSES: The meeting will be held by teleconference. The dial-in number is 888-790-2057; the conference code is 32938.

FOR FURTHER INFORMATION CONTACT: For information about the meeting or joining the Consortium, contact Timothy Quinn, Cell and Tissue Mechanics Group, National Institute of Standards and Technology, 325 Broadway, Stop 853, Boulder, CO 80305-3328, (303) 497-3480, timothy.quinn@nist.gov.

SUPPLEMENTARY INFORMATION: The goal of the consortium will include determining methods that best measure the fatigue performance of transvenous cardiac pacing leads. This goal will be achieved by evaluating current practices used in industry and developing standard requirements. Consortium planning and standard development would be conducted by NIST staff along with at least one technical representative from each participating member entities and any outside technical experts they should designate. Each member of the consortium will be required to sign a Cooperative Research and Development Agreement (“CRADA”) with NIST. Membership fees for participation in the consortium will be Two Thousand ($2,000) per year. It is anticipated that the initial term of the consortium will be Two (2) years. The deadline for joining the consortium is June 29, 2012. After June 29, 2012 no new members will be able to join the Consortium.

Dated: April 24, 2012.
David Robinson,
Associate Director for Management Resources.

[FR Doc. 2012-10262 Filed 4-26-12; 8:45 am]

BILLING CODE 3510-13-P